AGENCY FOR INTERNATIONAL DEVELOPMENT

Board for International Food and Agricultural Development Notice of Meeting; Correction

AGENCY: U.S. Agency for International Development.

ACTION: Notice; correction.

SUMMARY: The U.S. Agency for International Development published a document in the Federal Register of 2019-20311 concerning notification of a public meeting. The document omitted the meeting date, October 15, 2019.

FOR FURTHER INFORMATION CONTACT: Clara Cohen, 202-712-0119.

SUPPLEMENTARY INFORMATION:

Correction

In the Federal Register of 09/19/2019 2019-20311, on p. 49245, in the second sentence, correct the text to read:

The meeting will be held October 15 2019 from 8:30 a.m. to 4:20 p.m. CDT at the Hotel Downtown Marriott in Des Moines Iowa.

Clara Cohen,
Designated Federal Officer, BIFAD.

[FR Doc. 2019-20763 Filed 9-24-19; 8:45 am]

BILLING CODE 6116-02-P